DEPARTMENT OF THE INTERIOR

Bureau of Land Management

[ID 100 1220MA 241A: DBG081014]

Notice of Public Meeting: Resource Advisory Council to the Boise District, Bureau of Land Management, U.S. Department of the Interior

AGENCY: Bureau of Land Management, U.S. Department of the Interior.

ACTION: Notice of Public Meeting.

SUMMARY: In accordance with the Federal Land Policy and Management Act (FLPMA) and the Federal Advisory Committee Act of 1972 (FACA), the U.S. Department of the Interior, Bureau of Land Management (BLM) Boise District Resource Advisory Council (RAC), will hold a meeting as indicated below.

DATES: The meeting will be held January 31, 2008, beginning at 9 a.m. and adjourning at 3 p.m. The meeting will be held at the Boise District Office located at 3948 S. Development Avenue, Boise Idaho. Public comment periods will be held during the course of the meeting.

FOR FURTHER INFORMATION CONTACT: MJ Byrne, Public Affairs Officer and RAC Coordinator, BLM Boise District, 3948 Development Ave., Boise, ID 83705, Telephone (208) 384-3393.

SUPPLEMENTARY INFORMATION: The 15-member Council advises the Secretary of the Interior, through the BLM, on a variety of planning and management issues associated with public land management in southwestern Idaho.

The Council will be briefed by a representative of Idaho's U.S. Senator Mike Crapo's office regarding the Fee Repeal and Expanded Access Act of 2007 that he is a co-sponsor of with Montana's U.S. Senator Mike Baucus. The bill would repeal the 2004 passed Federal Lands Recreation Enhancement Act. There will be a discussion about the West-Wide Energy Corridor Programmatic Environmental Impact Statement and proposed routes going through the District's public lands. Hot Topics will be discussed by the District Manager and Field Office managers will provide highlights on activities in their offices.

Agenda items and location may change due to changing circumstances. All meetings are open to the public. The public may present written comments to the Council. Each formal Council meeting will also have time allocated for hearing public comments. Depending on the number of persons wishing to comment and time available, the time for individual oral comments may be limited. Individuals who plan to attend and need special assistance, such as sign language interpretation, or other reasonable accommodations, should contact the BLM Coordinator as provided above.

Dated: December 27, 2007.
David Wolf,
Associate, District Manager.

[FR Doc. E7-25547 Filed 1-2-08; 8:45 am]

BILLING CODE 4310-GG-P